DEPARTMENT OF THE INTERIOR

National Park Service

[NPS-WASO-NAGPRA-NPS0037826; PPWOCRADN0-PCU00RP14.R50000]

Notice of Inventory Completion: Los Rios Community College District, Sacramento, CA

AGENCY: National Park Service, Interior.

ACTION: Notice.

SUMMARY: In accordance with the Native American Graves Protection and Repatriation Act (NAGPRA), the Los Rios Community College District (LRCCD) has completed an inventory of associated funerary objects and has determined that there is a cultural affiliation between the associated funerary objects and Indian Tribes or Native Hawaiian organizations in this notice.

DATES: Repatriation of the associated funerary objects in this notice may occur on or after May 31, 2024.

ADDRESSES: Jamey Nye, Los Rios Community College District, 1919 Spanos Ct., Arden-Arcade, CA 95825, telephone (916) 568-3031, email nagpra@losrios.edu.

SUPPLEMENTARY INFORMATION: This notice is published as part of the National Park Service's administrative responsibilities under NAGPRA. The determinations in this notice are the sole responsibility of LRCCD, and additional information on the determinations in this notice, including the results of consultation, can be found in the inventory or related records. The National Park Service is not responsible for the determinations in this notice.

Abstract of Information Available

Based on the information available, sometime before 1936, associated funerary objects were removed from the Johnson Mound (CA-SAC-06) in Sacramento County, California by Jeremiah B. Lillard. Between 1923 and 1940, Lillard was president of the Sacramento Junior College, now named Sacramento City College, which is one of four campuses in LRCCD. In April 2023, the associated funerary objects were located on the American River College campus, another campus within LRCCD. The two associated funerary objects are one abalone ornament and one bow-shaped abalone ornament.

Based on the information available, sometime between 1933 and 1938, the associated funerary object was removed from Augustine Mound (CA-SAC-127) in Sacramento County, California by Jeremiah B. Lillard. Between 1923 and 1940, Lillard was president of the Sacramento Junior College, now named Sacramento City College, which is one of four campuses in LRCCD. In April 2023, the associated funerary object was located on the American River College campus, another campus within LRCCD. The associated funerary object is one bone pendant (awl).

Based on the information available, in 1939, the associated funerary object was removed from the Needs Site (CA-SAC-151) in Sacramento County, California by the Sacramento Junior College Field Party, which was led by the college president, Jeremiah B. Lillard. Sacramento Junior College, now named Sacramento City College, is one of four campuses in LRCCD. In April 2023, the associated funerary object was located on the American River College campus, another campus within LRCCD. The associated funerary object is one basal point.

LRCCD has no record of any potentially hazardous substances being used to treat any of the associated funerary objects described in this notice.

Cultural Affiliation

Based on the information available and the results of consultation, cultural affiliation is clearly identified by the information available about the associated funerary objects described in this notice.

Determinations

LRCCD has determined that:

• The four objects described in this notice are reasonably believed to have been placed intentionally with or near individual human remains at the time of death or later as part of the death rite or ceremony.

• There is a reasonable connection between the associated funerary objects described in this notice and the Buena Vista Rancheria of Me-Wuk Indians of California; California Valley Miwok Tribe, California; Chicken Ranch Rancheria of Me-Wuk Indians of California; Ione Band of Miwok Indians of California; Jackson Band of Miwuk Indians; Shingle Springs Band of Miwok Indians, Shingle Springs Rancheria (Verona Tract), California; Tuolumne Band of Me-Wuk Indians of the Tuolumne Rancheria of California; United Auburn Indian Community of the Auburn Rancheria of California; and the Wilton Rancheria, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after May 31, 2024. If competing requests for repatriation are received, LRCCD must determine the most appropriate requestor prior to repatriation. Requests for joint repatriation of associated funerary objects are considered a single request and not competing requests. LRCCD is responsible for sending a copy of this notice to the Indian Tribes and Native Hawaiian organizations identified in this notice.

Authority: Native American Graves Protection and Repatriation Act, 25 U.S.C. 3003, and the implementing regulations, 43 CFR 10.10.

Dated: April 23, 2024.
Melanie O'Brien,
Manager, National NAGPRA Program.

[FR Doc. 2024-09400 Filed 4-30-24; 8:45 am]

BILLING CODE 4312-52-P